DEPARTMENT OF AGRICULTURE

Submission for OMB Review; Comment Request

April 27, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Departmental Administration

Title: USDA PIV Request for Credential.

OMB Control Number: 0505-0022.

Summary of Collection: To obtain approval of information that must be provided by Federal contractors and other applicable individuals (including all employees and some affiliates) when applying for a USDA credential (identification card). The information is necessary to comply with the requirements outlined in Homeland Security Presidential Directive (HSPD) 12, and Federal Information Processing Standard (FIPS) 201, Personal Identity Verification (PIV) Phase I and II. In years past, government agencies have all required various levels and means of authenticating Federal employees and contractors as a requirement to enter government buildings and use government systems. HSPD 12 mandates the creation of a standard for identity proofing and credentialing Federal employees and contractors.

Need and Use of the Information: Information will be collected using form AD 1197, Request for USDA Identification (ID) Badge, that will be completed on behalf of employees contractors, or other applicable individuals requiring long term access to federally controlled facilities and/or information systems who began work at USDA on or after October 27, 2005. This information is required as part of USDA's PIV I identity proofing and registration process. For PIV II, implemented before October 27, 2006 form AD 1197 will be eliminated and the identity process will be streamlined with addition of a Web-based HSPD-12 system.

Description of Respondents: Individuals or households; Federal Government.

Number of Respondents: 37,000.

Frequency of Responses: Reporting: On occasion.

Total Burden Hours: 120,350.

Ruth Brown,
Departmental Information Collection Clearance Officer.

[FR Doc. E6-6636 Filed 5-2-06; 8:45 am]

BILLING CODE 3410-96-P